NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities will hold sixteen meetings of the Humanities Panel, a federal advisory committee, during August and September 2019. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 26, 2019

This meeting will discuss applications for the American History and Civics Education: National Convenings program, submitted to the Division of Education Programs.

2. Date: September 4, 2019

This meeting—the first of two on this date—will discuss applications for the Humanities Initiatives at Community Colleges grant program, submitted to the Division of Education Programs.

3. Date: September 4, 2019

This meeting—the second of two on this date—will discuss applications for the Humanities Initiatives at Community Colleges grant program, submitted to the Division of Education Programs.

4. Date: September 5, 2019

This meeting will discuss applications on the topics of Education and Public Programs, for the Digital Humanities Advancement Grants program, submitted to the Office of Digital Humanities.

5. Date: September 5, 2019

This meeting will discuss applications for the Humanities Initiatives at Community Colleges grant program, submitted to the Division of Education Programs.

6. Date: September 5, 2019

This meeting will discuss applications on the topics of Global Culture and Gaming, for the Digital Projects for the Public grant program, submitted to the Division of Public Programs.

7. Date: September 6, 2019

This meeting will discuss applications on the topics of U.S. History and Culture, for the Digital Projects for the Public grant program, submitted to the Division of Public Programs.

8. Date: September 9, 2019

This meeting will discuss applications on the topic of Arts and Culture, for the Digital Projects for the Public grant program, submitted to the Division of Public Programs.

9. Date: September 9, 2019

This meeting will discuss applications on the topic of Arts and Media Studies, for the Digital Humanities Advancement Grants program, submitted to the Office of Digital Humanities.

10. Date: September 10, 2019

This meeting will discuss applications on the topics of Languages and Linguistics, for the Digital Humanities Advancement Grants program, submitted to the Office of Digital Humanities.

11. Date: September 10, 2019

This meeting will discuss applications on the topic of Democracy and the Arts, for the Digital Projects for the Public grant program, submitted to the Division of Public Programs.

12. Date: September 11, 2019

This meeting will discuss applications on the topics of U.S. History and Culture, for the Digital Projects for the Public grant program, submitted to the Division of Public Programs.

13. Date: September 12, 2019

This meeting will discuss applications on the topic of U.S. Places, for the Digital Projects for the Public grant program, submitted to the Division of Public Programs.

14. Date: September 12, 2019

This meeting will discuss applications on the topics of Geospatial, Visualization, and Modeling, for the Digital Humanities Advancement Grants program, submitted to the Office of Digital Humanities.

15. Date: September 16, 2019

This meeting will discuss applications on the topic of Scholarly Communication, for the Digital Humanities Advancement Grants program, submitted to the Office of Digital Humanities.

16. Date: September 17, 2019

This meeting will discuss applications on the topic of Digital Collections, for the Digital Humanities Advancement Grants program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: August 5, 2019.
Caitlin Cater,
Attorney-Advisor, National Endowment for the Humanities.

[FR Doc. 2019-17037 Filed 8-8-19; 8:45 am]

BILLING CODE 7536-01-P